DEPARTMENT OF HEALTH AND HUMAN SERVICES

Centers for Disease Control and Prevention

National Center for Health Statistics (NCHS), Classifications and Public Health Data Standards Staff, Announces the Following Meeting

Name: ICD-9-CM Coordination and Maintenance Committee Meeting.

Time and Date: 8:30 a.m.-6 p.m., March 19, 2008. 8:30 a.m.-6 p.m., March 20, 2008.

Place: Centers for Medicare and Medicaid Services (CMS) Auditorium, 7500 Security Boulevard, Baltimore, Maryland 21244.

Status: Open to the public.

Purpose: The ICD-9-CM Coordination and Maintenance (C&M) Committee will hold its first meeting of the 2008 calendar year cycle on Wednesday and Thursday, March 19-20, 2008. The C&M meeting is a public forum for the presentation of proposed modifications to the International Classification of Diseases, Ninth Revision, Clinical Modification.

Matters To Be Discussed: Tentative agenda items include:

Antidepressant poisonings

Gastroschisis and omphalocele

History of t-PA

Methicillin resistant staphylococcus aureus

Military-related external cause of injury codes and activity codes

Premature birth status

Venous complications in pregnancy and the puerperium

Venous thromboembolism

Addenda (diagnoses)

Bilateral ventricular assist devices

Collateral air flow assessment

Episiotomy and repair of spontaneous lacerations

Fenestrated endograft repair of infrarenal abdominal aortic aneurysms

Laparoscopic robotic assisted surgery

Spinal fusion robotic assisted surgery

Total breast reconstruction

Addenda (procedures)

Contact Person for Additional Information: Amy Blum, Medical Systems Specialist, Classifications and Public Health Data Standards Staff, NCHS, 3311 Toledo Road, Room 2402, Hyattsville, Maryland 20782, e-mail alb8@cdc.gov, telephone 301-458-4106 (diagnosis), Mady Hue, Health Insurance Specialist, Division of Acute Care, CMS, 7500 Security Blvd., Baltimore, Maryland 21244, e-mail marilu.hue@cms.hhs.gov, telephone 410-786-4510 (procedures).

Notice: Because of increased security requirements, CMS has instituted stringent procedures for entrance into the building by non-government employees. Persons without a government I.D. will need to show an official form of picture I.D., (such as a driver's license), and sign in at the security desk upon entering the building.

Those who wish to attend a specific ICD-9-CM C&M meeting in the CMS auditorium must submit their name and organization for addition to the meeting visitor's list. Those wishing to attend the March 19-20, 2008 meeting must submit their name and organization by March 12, 2008 for inclusion on the visitor's list. This visitor's list will be maintained at the front desk of the CMS building and be used by the guards to admit visitors to the meeting. Those who attended previous ICD-9-CM C&M meetings will no longer be automatically added to the visitor's list. You must request inclusion of your name prior to each meeting you attend.

Register to attend the meeting on-line at: http://www.cms.hhs.gov/apps/events/.

Notice: This is a public meeting. However, because of fire code requirements, should the number of attendants meet the capacity of the room, the meeting will be closed.

The Director, Management Analysis and Services Office, has been delegated the authority to sign Federal Register notices pertaining to announcements of meetings and other committee management activities, for both CDC and the Agency for Toxic Substances and Disease Registry.

Dated: February 25, 2008.
Elaine L. Baker,
Director, Management Analysis and Services Office, Centers for Disease Control and Prevention (CDC).

[FR Doc. E8-4095 Filed 3-3-08; 8:45 am]

BILLING CODE 4160-18-P